SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: September 1-30, 2015.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and (f) for the time period specified above:

Approvals By Rule Issued Under 18 CFR 806.22(e)

1. Downs Racing, LP dba Mohegan Sun Pocono, Mohegan Sun Pocono, ABR-201509001, Plains Township, Luzerne County, Pa.; Consumptive Use of Up to 0.3500 mgd; Approval Date: September 11, 2015.

Approvals By Rule Issued Under 18 CFR 806.22(f)

1. Anadarko E&P Onshore, LLC, Pad ID: Don J Davis Pad A, ABR-201008028.R1, Gamble Township, Lycoming County, Pa.; Consumptive Use of Up to 3.0000 mgd; Approval Date: September 3, 2015.

2. Chesapeake Appalachia, LLC, Pad ID: Decker Farms, ABR-201009037.R1, Rush Township, Susquehanna County, Pa.; Consumptive Use of Up to 7.5000 mgd; Approval Date: September 3, 2015.

3. Chesapeake Appalachia, LLC, Pad ID: Rocks, ABR-201101003.R1, Overton Township, Bradford County, Pa.; Consumptive Use of Up to 7.5000 mgd; Approval Date: September 3, 2015.

4. Chesapeake Appalachia, LLC, Pad ID: Aukema, ABR-201101013.R1, Meshoppen Township, Wyoming County, Pa.; Consumptive Use of Up to 7.5000 mgd; Approval Date: September 3, 2015.

5. Chesapeake Appalachia, LLC, Pad ID: Fausto, ABR-201101015.R1, Litchfield Township, Bradford County, Pa.; Consumptive Use of Up to 7.5000 mgd; Approval Date: September 3, 2015.

6. Chesapeake Appalachia, LLC, Pad ID: Bo, ABR-201101016.R1, Tuscarora Township, Bradford County, Pa.; Consumptive Use of Up to 7.5000 mgd; Approval Date: September 3, 2015.

7. Chesapeake Appalachia, LLC, Pad ID: Struble, ABR-201101017.R1, Litchfield Township, Bradford County, Pa.; Consumptive Use of Up to 7.5000 mgd; Approval Date: September 3, 2015.

8. Chesapeake Appalachia, LLC, Pad ID: DJ, ABR-201101021.R1, Wysox Township, Bradford County, Pa.; Consumptive Use of Up to 7.5000 mgd; Approval Date: September 3, 2015.

9. Chief Oil & Gas, LLC, Pad ID: Dacheux Drilling Pad #1, ABR-201101014.R1, Cherry Township, Sullivan County, Pa.; Consumptive Use of Up to 2.0000 mgd; Approval Date: September 3, 2015.

10. Chief Oil & Gas, LLC, Pad ID: Andrus Drilling Pad #1, ABR-201101023.R1, Granville Township, Bradford County, Pa.; Consumptive Use of Up to 2.0000 mgd; Approval Date: September 3, 2015.

11. EOG Resources, Inc., Pad ID: KINGSLEY 2H, ABR-20100692.R1, Springfield Township, Bradford County, Pa.; Consumptive Use of Up to 4.9990 mgd; Approval Date: September 3, 2015.

12. EOG Resources, Inc., Pad ID: KINGSLEY 3H, ABR-20100698.R1, Springfield Township, Bradford County, Pa.; Consumptive Use of Up to 4.9990 mgd; Approval Date: September 3, 2015.

13. EXCO Resources (PA), LLC, Pad ID: Kensinger Unit Drilling Pad #1, ABR-20090922.R1, Penn Township, Lycoming County, Pa.; Consumptive Use of Up to 5.0000 mgd; Approval Date: September 3, 2015.

14. Seneca Resources Corporation, Pad ID: DCNR Tract 001 1H, ABR-201008142.R1, Sweden Township, Potter County, Pa.; Consumptive Use of Up to 4.0000 mgd; Approval Date: September 3, 2015.

15. SWN Production Company LLC, Pad ID: Loomis Well No. 2H, ABR-20100504.R1, Rush Township, Susquehanna County, Pa.; Consumptive Use of Up to 4.0000 mgd; Approval Date: September 3, 2015.

16. SWEPI LP, Pad ID: Synnestvedt 878, ABR-201007009.R1, Osceola Township, Tioga County, Pa.; Consumptive Use of Up to 4.0000 mgd; Approval Date: September 3, 2015.

17. SWEPI LP, Pad ID: Matz 824, ABR-201007010.R1, Chatham Township, Tioga County, Pa.; Consumptive Use of Up to 4.0000 mgd; Approval Date: September 3, 2015.

18. SWEPI LP, Pad ID: Cochran 705, ABR-201007012.R1, Union Township, Tioga County, Pa.; Consumptive Use of Up to 4.0000 mgd; Approval Date: September 3, 2015.

19. SWEPI LP, Pad ID: Frost 573, ABR-201007013.R1, Covington Township, Tioga County, Pa.; Consumptive Use of Up to 4.0000 mgd; Approval Date: September 3, 2015.

20. SWEPI LP, Pad ID: Murdock 862, ABR-201007015.R1, Deerfield Township, Tioga County, Pa.; Consumptive Use of Up to 4.0000 mgd; Approval Date: September 3, 2015.

21. SWEPI LP, Pad ID: Taylor 718, ABR-201007016.R1, Liberty Township, Tioga County, Pa.; Consumptive Use of Up to 4.0000 mgd; Approval Date: September 3, 2015.

22. SWEPI LP, Pad ID: Wesneski 724, ABR-201007017.R1, Union Township, Tioga County, Pa.; Consumptive Use of Up to 4.0000 mgd; Approval Date: September 3, 2015.

23. SWEPI LP, Pad ID: Thomas 503, ABR-201007050.R1, Sullivan and Rutland Townships, Tioga County, Pa.; Consumptive Use of Up to 4.0000 mgd; Approval Date: September 3, 2015.

24. SWEPI LP, Pad ID: Swingle 725, ABR-201007129.R1, Canton Township, Bradford County, Pa.; Consumptive Use of Up to 4.0000 mgd; Approval Date: September 3, 2015.

25. Anadarko E&P Onshore, LLC, Pad ID: Jack L Hipple Pad A, ABR-201008021.R1, Gamble Township, Lycoming County, Pa.; Consumptive Use of Up to 3.0000 mgd; Approval Date: September 8, 2015.

26. Anadarko E&P Onshore, LLC, Pad ID: Thomas E Smith Pad A, ABR-201008057.R1, Gamble Township, Lycoming County, Pa.; Consumptive Use of Up to 3.0000 mgd; Approval Date: September 8, 2015.

27. Anadarko E&P Onshore, LLC, Pad ID: George E Hagemeyer Pad A, ABR-201008077.R1, Gamble Township, Lycoming County, Pa.; Consumptive Use of Up to 3.0000 mgd; Approval Date: September 8, 2015.

28. Anadarko E&P Onshore, LLC, Pad ID: Nevin L Smith Pad A, ABR-201008115.R1, Gamble Township, Lycoming County, Pa.; Consumptive Use of Up to 3.0000 mgd; Approval Date: September 8, 2015.

29. Anadarko E&P Onshore, LLC, Pad ID: Kenneth T Schriner Pad A, ABR-201009107.R1, Gamble Township, Lycoming County, Pa.; Consumptive Use of Up to 3.0000 mgd; Approval Date: September 8, 2015.

30. Carrizo (Marcellus), LLC, Pad ID: Shaskas South, ABR-201011022.R1, Jessup Township, Susquehanna County, Pa.; Consumptive Use of Up to 2.1000 mgd; Approval Date: September 8, 2015.

31. Carrizo (Marcellus), LLC, Pad ID: Bonnice 2, ABR-201011023.R1, Jessup Township, Susquehanna County, Pa.; Consumptive Use of Up to 2.1000 mgd; Approval Date: September 8, 2015.

32. Chesapeake Appalachia, LLC, Pad ID: Gerbino #1, ABR-20090710.R1, Ridgebury Township, Bradford County, Pa.; Consumptive Use of Up to 2.0000 mgd; Approval Date: September 8, 2015.

33. Chesapeake Appalachia, LLC, Pad ID: Warren #1, ABR-20090711.R1, Ridgebury Township, Bradford County, Pa.; Consumptive Use of Up to 2.0000 mgd; Approval Date: September 8, 2015.

34. Chesapeake Appalachia, LLC, Pad ID: Wasyl, ABR-201101002.R1, Ulster Township, Bradford County, Pa.; Consumptive Use of Up to 7.5000 mgd; Approval Date: September 8, 2015.

35. Chesapeake Appalachia, LLC, Pad ID: Beech Flats, ABR-201101012.R1, West Branch and Pike Townships, Potter County, Pa.; Consumptive Use of Up to 7.5000 mgd; Approval Date: September 8, 2015.

36. Chesapeake Appalachia, LLC, Pad ID: Bustin Homestead, ABR-201101025.R1, Sheshequin Township, Bradford County, Pa.; Consumptive Use of Up to 7.5000 mgd; Approval Date: September 8, 2015.

37. Chesapeake Appalachia, LLC, Pad ID: Beeman, ABR-201101028.R1, Litchfield Township, Bradford County, Pa.; Consumptive Use of Up to 7.5000 mgd; Approval Date: September 8, 2015.

38. SWEPI LP, Pad ID: Sorensen 876, ABR-201007021.R1, Osceola Township, Tioga County, Pa.; Consumptive Use of Up to 4.0000 mgd; Approval Date: September 8, 2015.

39. SWEPI LP, Pad ID: Westerbaan 723, ABR-201007038.R1, Union Township, Tioga County, Pa.; Consumptive Use of Up to 4.0000 mgd; Approval Date: September 8, 2015.

40. SWEPI LP, Pad ID: State 822, ABR-201007040.R1, Gaines Township, Tioga County, Pa.; Consumptive Use of Up to 4.9900 mgd; Approval Date: September 8, 2015.

41. SWEPI LP, Pad ID: Taft 851, ABR-201007047.R1, Middlebury Township, Tioga County, Pa.; Consumptive Use of Up to 4.0000 mgd; Approval Date: September 8, 2015.

42. SWEPI LP, Pad ID: Baldwin 881, ABR-201007068.R1, Farmington Township, Tioga County, Pa.; Consumptive Use of Up to 4.0000 mgd; Approval Date: September 8, 2015.

43. Tenaska Resources, LLC, Pad ID: Sylvester 1H, ABR-20100155.R1, Brookfield Township, Tioga County, Pa.; Consumptive Use of Up to 1.0000 mgd; Approval Date: September 8, 2015.

44. Tenaska Resources, LLC, Pad ID: NorthFork 1H, ABR-20100158.R1, Brookfield Township, Tioga County, Pa.; Consumptive Use of Up to 1.0000 mgd; Approval Date: September 8, 2015.

45. Tenaska Resources, LLC, Pad ID: Austinburg 1H, ABR-20100313.R1, Brookfield Township, Tioga County, Pa.; Consumptive Use of Up to 1.0000 mgd; Approval Date: September 8, 2015.

46. EOG Resources, Inc., Pad ID: Olsyn 1H, ABR-201509004, Springfield Township, Bradford County, Pa.; Consumptive Use of Up to 5.0000 mgd; Approval Date: September 17, 2015.

47. EOG Resources, Inc., Pad ID: Pichler 1H, ABR-201509003, Jay Township, Elk County, Pa.; Consumptive Use of Up to 5.0000 mgd; Approval Date: September 17, 2015.

48. EOG Resources, Inc., Pad ID: PHC 2H, ABR-201509002, Lawrence Township, Clearfield County, Pa.; Consumptive Use of Up to 5.0000 mgd; Approval Date: September 17, 2015.

49. SWEPI LP, Pad ID: Maneval 296, ABR-201007056.R1, Delmar Township, Tioga County, Pa.; Consumptive Use of Up to 4.0000 mgd; Approval Date: September 17, 2015.

50. SWEPI LP, Pad ID: Reese 289, ABR-201007057.R1, Charleston Township, Tioga County, Pa.; Consumptive Use of Up to 4.0000 mgd; Approval Date: September 17, 2015.

51. SWEPI LP, Pad ID: Harsell 883, ABR-201007066.R1, Nelson Township, Tioga County, Pa.; Consumptive Use of Up to 4.0000 mgd; Approval Date: September 17, 2015.

52. SWEPI LP, Pad ID: Wood 874, ABR-201007069.R1, Deerfield Township, Tioga County, Pa.; Consumptive Use of Up to 4.0000 mgd; Approval Date: September 17, 2015.

53. SWEPI LP, Pad ID: Sawyer 376, ABR-201007061.R1, Union Township, Tioga County, Pa.; Consumptive Use of Up to 4.0000 mgd; Approval Date: September 17, 2015.

54. SWEPI LP, Pad ID: Cleveland 616, ABR-201007089.R1, Delmar Township, Tioga County, Pa.; Consumptive Use of Up to 4.0000 mgd; Approval Date: September 17, 2015.

55. Cabot Oil & Gas Corporation, Pad ID: Teel P4, ABR-20080701.R1, Springville Township, Susquehanna County, Pa.; Consumptive Use of Up to 0.7000 mgd; Approval Date: September 17, 2015.

56. Cabot Oil & Gas Corporation, Pad ID: Teel P3, ABR-20080702.R1, Springville Township, Susquehanna County, Pa.; Consumptive Use of Up to 0.7000 mgd; Approval Date: September 17, 2015.

57. Cabot Oil & Gas Corporation, Pad ID: Costello P1, ABR-20080707.R1, Dimock Township, Susquehanna County, Pa.; Consumptive Use of Up to 0.9000 mgd; Approval Date: September 17, 2015.

58. Cabot Oil & Gas Corporation, Pad ID: Black P1, ABR-20080708.R1, Springville Township, Susquehanna County, Pa.; Consumptive Use of Up to 3.5000 mgd; Approval Date: September 17, 2015.

59. Cabot Oil & Gas Corporation, Pad ID: Ely P3, ABR-20080709.R1, Dimock Township, Susquehanna County, Pa.; Consumptive Use of Up to 3.5000 mgd; Approval Date: September 17, 2015.

60. Cabot Oil & Gas Corporation, Pad ID: Ely P2, ABR-20080722.R1, Dimock Township, Susquehanna County, Pa.; Consumptive Use of Up to 0.9000 mgd; Approval Date: September 17, 2015.

61. Cabot Oil & Gas Corporation, Pad ID: Lewis P2, ABR-20080802.R1, Dimock Township, Susquehanna County, Pa.; Consumptive Use of Up to 0.9000 mgd; Approval Date: September 17, 2015.

62. Cabot Oil & Gas Corporation, Pad ID: Lewis P1, ABR-20080803.R1, Dimock Township, Susquehanna County, Pa.; Consumptive Use of Up to 0.9000 mgd; Approval Date: September 17, 2015.

63. Cabot Oil & Gas Corporation, Pad ID: Costello P2, ABR-20080804.R1, Dimock Township, Susquehanna County, Pa.; Consumptive Use of Up to 0.9000 mgd; Approval Date: September 17, 2015.

64. Anadarko E&P Onshore, LLC, Pad ID: Wallis Run HC Pad A, ABR-201008078.R1, Cascade Township, Lycoming County, Pa.; Consumptive Use of Up to 3.0000 mgd; Approval Date: September 28, 2015.

65. Anadarko E&P Onshore, LLC, Pad ID: Michael R Fulkerson Pad A, ABR-201008116.R1, Cogan House Township, Lycoming County, Pa.; Consumptive Use of Up to 3.0000 mgd; Approval Date: September 28, 2015.

66. Anadarko E&P Onshore, LLC, Pad ID: Frank L Hartley Pad A, ABR-201008144.R1, Cogan House Township, Lycoming County, Pa.; Consumptive Use of Up to 3.0000 mgd; Approval Date: September 28, 2015.

67. Anadarko E&P Onshore, LLC, Pad ID: Plants Evergreen Farm Pad A, ABR-201009003.R1, Cascade Township, Lycoming County, Pa.; Consumptive Use of Up to 3.0000 mgd; Approval Date: September 28, 2015.

68. Anadarko E&P Onshore, LLC, Pad ID: COP Tr 685 Pad C, ABR-201009013.R1, Cummings Township, Lycoming County, Pa.; Consumptive Use of Up to 3.0000 mgd; Approval Date: September 28, 2015.

69. Anadarko E&P Onshore, LLC, Pad ID: COP Tr 290 Pad A, ABR-201009043.R1, McHenry Township, Lycoming County, Pa.; Consumptive Use of Up to 4.0000 mgd; Approval Date: September 28, 2015.

70. Anadarko E&P Onshore, LLC, Pad ID: COP Tr 289 Pad E, ABR-201009048.R1, McHenry Township, Lycoming County, Pa.; Consumptive Use of Up to 3.0000 mgd; Approval Date: September 28, 2015.

71. Anadarko E&P Onshore, LLC, Pad ID: COP Tr 731 Pad A, ABR-201009057.R1, Cummings Township, Lycoming County, Pa.; Consumptive Use of Up to 3.0000 mgd; Approval Date: September 28, 2015.

72. Anadarko E&P Onshore, LLC, Pad ID: Gayla D Loch Pad A, ABR-201009083.R1, Cogan House Township, Lycoming County, Pa.; Consumptive Use of Up to 3.0000 mgd; Approval Date: September 28, 2015.

73. Chesapeake Appalachia, LLC, Pad ID: Meng, ABR-201101005.R1, Albany Township, Bradford County, Pa.; Consumptive Use of Up to 7.5000 mgd; Approval Date: September 28, 2015.

74. Chesapeake Appalachia, LLC, Pad ID: VRGC, ABR-201101022.R1, Wilmot Township, Bradford County, Pa.; Consumptive Use of Up to 7.5000 mgd; Approval Date: September 28, 2015.

75. Chesapeake Appalachia, LLC, Pad ID: Walker, ABR-201101030.R1, Wilmot Township, Bradford County, Pa.; Consumptive Use of Up to 7.5000 mgd; Approval Date: September 28, 2015.

76. SWEPI LP, Pad ID: Gee 848V, ABR-201007093.R1, Middlebury Township, Tioga County, Pa.; Consumptive Use of Up to 4.0000 mgd; Approval Date: September 28, 2015.

77. Talisman Energy USA Inc., Pad ID: 02 100 Detweiler R, ABR-201008023.R1, Covington Township, Tioga County, Pa.; Consumptive Use of Up to 6.0000 mgd; Approval Date: September 29, 2015.

78. Talisman Energy USA Inc., Pad ID: 02 203 DCNR 594, ABR-201008042.R1, Liberty Township, Tioga County, Pa.; Consumptive Use of Up to 6.0000 mgd; Approval Date: September 29, 2015.

79. Talisman Energy USA Inc., Pad ID: Carpenter 03 023, ABR-201008141.R1, Columbia Township, Bradford County, Pa.; Consumptive Use of Up to 6.0000 mgd; Approval Date: September 29, 2015.

80. Talisman Energy USA Inc., Pad ID: DCNR 587 02 003, ABR-201008069.R1, Ward Township, Tioga County, Pa.; Consumptive Use of Up to 6.0000 mgd; Approval Date: September 29, 2015.

81. Talisman Energy USA Inc., Pad ID: DCNR 587 02 019, ABR-201008072.R1, Ward Township, Tioga County, Pa.; Consumptive Use of Up to 6.0000 mgd; Approval Date: September 29, 2015.

82. Talisman Energy USA Inc., Pad ID: Roy 03 062, ABR-201008089.R1, Wells Township, Bradford County, Pa.; Consumptive Use of Up to 6.0000 mgd; Approval Date: September 29, 2015.

Authority: Pub. L. 91-575, 84 Stat. 1509 et seq., 18 CFR parts 806, 807, and 808.

Dated: November 6, 2015.
Stephanie L. Richardson
Secretary to the Commission.

[FR Doc. 2015-28726 Filed 11-10-15; 8:45 am]

BILLING CODE 7040-01-P